DEPARTMENT OF COMMERCE

National Oceanic and Atmospheric Administration

RIN 0648-XR51

Marine Mammals; File Nos. 774-1847 and 1032-1917

AGENCY: National Marine Fisheries Service (NMFS), National Oceanic and Atmospheric Administration (NOAA), Commerce.

ACTION: Notice; issuance of permit amendments.

SUMMARY: Notice is hereby given that NMFS Southwest Fisheries Science Center, Antarctic Marine Living Resources Program (Michael Goebel, PhD, Principal Investigator), 3333 N Torrey Pines Ct, La Jolla CA, 92037 and Robert A. Garrott, Ph.D, Ecology Department, Montana State University, 310 Lewis Hall, Bozeman, MT, 59717 have been issued amendments to scientific research permits 774-1847-03 and 1032-1917, respectively.

ADDRESSES: The amendment and related documents are available for review upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

FOR FURTHER INFORMATION CONTACT: Kate Swails or Tammy Adams, (301)713-2289.

SUPPLEMENTARY INFORMATION: On July 1, 2009 and June 16, 2009, notice was published in the Federal Register (74 FR 31413 and 74 FR 29179) that an amendment to Permit No. 774-1847-03 and an amendment to Permit No. 1032-1917 had been requested by the above-named individuals. The requested amendments have been granted under the authority of the Marine Mammal Protection Act of 1972, as amended (16 U.S.C. 1361 et seq.), and the regulations governing the taking and importing of marine mammals (50 CFR part 216).

The amendment to Permit No. 774-1847-03 authorizes a Weddell seal (Leptonychotes weddellii) study to understand movements, site fidelity, and demographics of this species in Antarctica. Up to 60 Weddell seals will be taken annually. Seals will be instrumented and sampled (blood, vibrissae, muscle/blubber, milk, and tissue). Up to 4 research-related mortalities of Weddell seals (2 adults and 2 juveniles) are authorized annually. The holder is also authorized to deploy microprocessors attached to flipper tags on Antarctic fur seals (Arctophalus gazella), increase the number of tissue samples collected from fur seals, increase the number of leopard seals (Hydrurga leptonyx) and fur seals tagged (for the purposes of retagging), and use an unmanned aircraft system for aerial photography. These activities are authorized for the duration of the permit, which expires on September 30, 2011.

The amendment to Permit No. 1032-1917 authorizes the use of a small temperature logging tag on Weddell seal pups in the Erebus Bay, McMurdo Sound, Ross Sea, and White Island areas of Antarctica.. The additional tag will be used to measure the amount of time pups spend in the water. This information will be used as part of the mass dynamics studies. This activity is authorized for the duration of the permit, which expires on October 1, 2012.

Dated: September 9, 2009.
P. Michael Payne,
Chief, Permits, Conservation and Education Division, Office of Protected Resources, National Marine Fisheries Service.

[FR Doc. E9-22037 Filed 9-11-09; 8:45 am]

BILLING CODE 3510-22-S